DEPARTMENT OF HOUSING AND URBAN DEVELOPMENT

[Docket No. FR-7075-N-11]

60-Day Notice of Proposed Information Collection: Training and Technical Assistance (TTA) Surveys, OMB Control No.: 2528-0325

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 13, 2023.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email Anna Guido at Anna.P.Guido@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Training and Technical Assistance (TTA) Surveys.

OMB Approval Number: 2528-0325.

Type of Request: Revision of a currently approved collection.

Form Number: N/A.

Description of the need for the information and proposed use: The surveys in this collection of information are necessary to systematically gather user feedback and outcomes data to evaluate and improve HUD's deployment and management of its Training and Technical Assistance (TTA) resources. This type of outcomes data has been consistently requested by both the Office of Management and Budget (OMB) and Congressional Appropriations Committee staff. Technical assistance and training outcomes measurement and evaluation is authorized under Sec. 501 of Title V of the HUD Act of 1970. The surveys are voluntary on the part of respondents.

Members of affected public: TA Recipients and TA Providers.

Estimated Number of Respondents: 13,558 yearly (estimated).

Estimated Time per Response: 10-15 minutes.

Frequency of Response: 1.1 (some recipients may receive multiple surveys from participating in multiple engagements).

Estimated Total Annual Burden Hours: 2,837 (13,558 surveys × 10-15 minutes).

Estimated Total Annual Cost: The only cost to respondents is that of their time. The total estimated cost to HUD in FY 2023 is $85,664.89.

Legal Authority: The survey is conducted under Sec. 501 of Title V of the HUD Act of 1970.

Information collection | Number of respondents ¹ | Frequency of response | Responses per annum | Burden hour per response | Annual burden hours | Hourly cost per response | Annual cost
TA Survey for TA Provider | 1,140 | ² 1.1 | 1,254 | 0.25 | 313.5 | ³ $47.20 | $14,797.20
TA Survey for Recipient | 1,140 | ⁴ 1.1 | 1,254 | 0.25 | 313.5 | ⁵ 33.11 | 10,379.99
Survey for In-Person Training | 3,500 | ⁶ 1.3 | 4,550 | 0.2 | 910 | ⁷ 27.37 | 24,906.70
Survey for Online Training | 5,000 | ⁸ 1.3 | 6,500 | 0.2 | 1,300 | ⁹ 27.37 | 35,581.00
Totals | 10,780 |  | 13,558 |  | 2,837 |  | 85,664.89
¹ Number of respondents is based on the frequency of TA and training engagements and the number of participants in recent years.
² HUD anticipates that some TA providers will provide multiple TA engagements and be asked to complete two surveys.
³ Hourly rate from GS-13-01 Schedule for “Rest of the U.S.” as of January 2023.
⁴ HUD anticipates that some TA recipients will receive multiple TA engagements and be asked to complete two surveys.
⁵ Hourly rate from GS-11-01 Schedule for “Rest of the U.S.” as of January 2023.
⁶ HUD anticipates that roughly 30% of in person trainees will complete multiple trainings and be asked to complete more than one survey.
⁷ Hourly rate from GS-09-01 Schedule for “Rest of the U.S.” as of January 2023.
⁸ HUD anticipates that roughly 30% of online trainees will complete multiple trainings and be asked to complete more than one survey.
⁹ Hourly rate from GS-09-01 Schedule for “Rest of the U.S.” as of January 2023.

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research.

[FR Doc. 2023-19606 Filed 9-11-23; 8:45 am]

BILLING CODE 4210-67-P